DEPARTMENT OF COMMERCE

Census Bureau

Construction Project Reporting Surveys (CPRS); Proposed Collection; Comment Request

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 20, 2000.

ADDRESSES: Direct all written comments to Madeleine Clayton, Departmental Forms Clearance Officer, Department of Commerce, Room 6086, 14th and Constitution Avenue, NW., Washington, DC 20230 (or via the Internet at MClayton@doc.gov).

FOR FURTHER INFORMATION CONTACT: Requests for additional information or copies of the information collection instrument(s) and instructions should be directed to Michael Davis, Census Bureau, Room 2126 FOB 4, Washington, DC 20233-6900, (301) 457-1605(or via the Internet at michael.davis@census.gov).

SUPPLEMENTARY INFORMATION:

I. Abstract

The Census Bureau conducts the Construction Project Reporting Surveys (CPRS) to collect information on the dollar value of construction put in place by private companies, individuals, private multifamily residential buildings, and state and local governments. The three CPRS forms are: Form C-700, Private Construction Projects; Form C-700(R), Multifamily Residential Projects; and Form C-700(SL), State and Local Government Projects. These three forms are currently cleared separately. With this revision, we plan to combine these three forms under one clearance. No other substantive changes to the forms are planned.

The Census Bureau is the preeminent collector and provider of timely, relevant and quality data about the people and economy of the United States. Economic data are the Census Bureau's primary program commitment during nondecennial census years. The Form C-700, Private Construction Projects collects construction put in place data for nonresidential projects owned by private companies or individuals. The Form C-700(R), Multifamily Residential Projects collects construction put in place data for private multifamily residential buildings. Form C-700(SL), State and Local Government Projects collects construction put in place data for state and local government projects.

The Census Bureau uses the information from these surveys to publish the value of construction put in place series. Published estimates are used by a variety of private business and trade associations to estimate the demand for building materials and to schedule production, distribution, and sales efforts. They also provide various governmental agencies with a tool to evaluate economic policy and to measure progress towards established goals. For example, Bureau of Economic Analysis staff use data to develop the construction components of gross private domestic investment in the gross domestic product. The Federal Reserve Board and the Department of Treasury use the value in place data to predict the gross domestic product, which is presented to the Board of Governors and has an impact on monetary policy.

II. Method of Collection

An independent systematic sample of projects is selected each month according to predetermined sampling rates. Once a project is selected it remains in the sample until completion of the project. Preprinted forms are mailed monthly to respondents to fill in current month data and any revisions to previous months. Some respondents are later called by a Census interviewer and report the data over the phone. Having the information available from a database at the time of the interview greatly helps reduce the time respondents spend on the phone. Interviews are scheduled at the convenience of the respondent, further reducing their burden.

III. Data

OMB Number: 0607-0163. In the past, we have had three OMB numbers, but with this revision we will be using only one. The other two OMB numbers affected are 0607-0153 and 0607-0171.

Form Number: C-700, C-700(R), C-700(SL).

Type of Review: Regular submission.

Affected Public: Individuals, Businesses or Other for Profit, Non Profit Institutions, Small Businesses or Organizations, and State or Local Governments.

Estimated Number of Respondents: C-700 = 6,000; C-700(R) = 1,440; C-700(SL) = 6,000.

Estimated Time Per Response: 15 minutes per month.

Estimated Total Annual Burden Hours: C-700 = 18,000; C-700(R) = 4,320; C-700(SL) = 18,000; TOTAL = 40,320.

Estimated Total Annual Cost: 2.7 million.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 15, 2000.
Madeleine Clayton,
Departmental Forms Clearance Officer,, Office of the Chief Information Officer.

[FR Doc. 00-24213 Filed 9-20-00; 8:45 am]

BILLING CODE 3510-07-P